DEFENSE NUCLEAR FACILITIES SAFETY BOARD

Notice of Public Hearing

AGENCY: Defense Nuclear Facilities Safety Board.

ACTION: Notice of Public Hearing.

SUMMARY: Notice is hereby given that the Defense Nuclear Facilities Safety Board (DNFSB) will hold a Public Hearing regarding the status of the Savannah River Site (SRS). The purpose of this Public Hearing is to gather information and discuss Department of Energy (DOE) and National Nuclear Security Administration (NNSA) actions that could impact the safety posture of particular operations at SRS.

DATES: The Public Hearing will be held on March 19, 2020, from 3:00 p.m. to 9:30 p.m.

ADDRESSES: The Public Hearing will be held in the Etherredge Center at the University of South Carolina Aiken. The Etherredge Center is located at 340 Scholar Loop, Aiken, South Carolina 29801.

FOR FURTHER INFORMATION CONTACT: Tara Tadlock, Manager of Board Operations, Defense Nuclear Facilities Safety Board, 625 Indiana Avenue NW, Suite 700, Washington, DC 20004-2901, (800) 788-4016. This is a toll-free number.

SUPPLEMENTARY INFORMATION: This Public Hearing will be composed of four sessions. In Session 1, Board Members will address DOE's past actions and future plans for addressing Recommendation 2012-1 regarding Building 235-F. The Board's objective for this session is to gather information related to the proposed changes to DOE's Implementation Plan and deactivation strategy, the actions and steps for deactivation of Building 235-F, and the plans for decommissioning, including the end state of Building 235-F.

In Session 2, Board Members will address Federal oversight and technical staffing needs. The Board will pay particular attention to the adequacy of current Office of Environmental Management (EM) and NNSA staffing to conduct oversight missions. This will include discussions of shortages in both facility representative positions for existing facilities and engineering positions with regard to personnel who review safety bases and perform safety system oversight, and the subsequent approach of delegating inherently federal functions to the contractor as a substitute for federal oversight. Session 2 will also include discussions of future technical staffing needs as new site missions, such as Savannah River Plutonium Production Facility operations and Surplus Plutonium blend-down, ramp up.

In Session 3, Board Members will address the safety poster of the Savannah River Tritium Enterprise (SRTE) facilities. The Board's objective for this session is to discuss the SRTE safety basis, completed improvements, and ongoing and planned actions to address the high radiological dose consequences to the workers for accident scenarios. In particular, the Board will focus on the ongoing actions at the SRTE that DOE cited as a basis to not accept Board Recommendation 2019-2.

In Sessions 1, 2, and 3, the DNFSB Technical Director will offer testimony presenting the perspective of the DNFSB Staff. Participants representing DOE and NNSA will be announced at https://www.dnfsb.gov as soon as possible.

In Session 4, Board Members will hear testimony from interested members of the public. Persons interested in speaking during Session 4 are encouraged to pre-register by submitting a request in writing to the Board's address listed above, emailing hearing@dnfsb.gov, or calling the Office of the General Counsel at (202) 694-7062 or (800) 788-4016 prior to close of business on March 17, 2020. The Board asks that commenters describe the nature and scope of their oral presentations. Those who pre-register will be scheduled to speak first. Individual oral comments may be limited by the time available, depending on the number of persons who register.

At the beginning of the hearing, the Board will post a list of speakers at the entrance to the hearing room. Anyone who wishes to comment or provide technical information or data may do so in writing, either in lieu of, or in addition to, making an oral presentation. The Board Members may question presenters to the extent deemed appropriate. Written comments and documents will be accepted at the hearing or may be sent to the Board's Washington, DC office. The Board will hold the hearing record open until April 20, 2020, for the receipt of additional materials. Additional details, including the detailed agenda for the hearing, are available at https://www.dnfsb.gov.

The hearing will be presented live through internet video streaming. A link to the presentation will be available on the Board's website, and a recording will be posted soon after. A transcript of these sessions and the associated correspondence will be made available on the Board's website. The Board specifically reserves its right to further schedule and otherwise regulate the course of the hearing, to recess, reconvene, postpone, or adjourn the hearing, conduct further reviews, and otherwise exercise its authority under the Atomic Energy Act of 1954, as amended.

Authority: 42 U.S.C. 2286b(a).

Dated: February 25, 2020.
Bruce Hamilton,
Chairman.

[FR Doc. 2020-04133 Filed 2-27-20; 8:45 am]

BILLING CODE 3670-01-P